DEPARTMENT OF HOUSING AND URBAN DEVELOPMENT

[Docket No. FR 4736-N-13)

Notice of Proposed Information Collection for Public Comment for Report on Occupancy for Public and Indian Housing

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 5, 2002.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Report on Occupancy for Public and Indian Housing.

OMB Control Number: 2577-0028.

Desription of the need for the information and proposed use: Housing Agencies (HAs) are required to submit occupancy information to HUD electronically for monitoring dwelling, nondwelling, demolished, boarded-up, under repair/modernization rehabilitation or vacant units. THe information should be verified on the Form HUD-51234 before it is submitted electrtonically. The information enables HUD to monitor the rate and extent at which the Low-income Public Housing Program is being used by HAs to assist low-income families.

Agency form number: HUD-51234.

Members of affected public: State, Tribal or Local Government.

Estimation of the total number of hours needed to prepare the information collection including number of respondents, frequency of response, and hours of response: 3400 respondents. Report period end date which shall be the date which is the last day of the month ending six months before the start of the PHA's Requested Budget. Year (BBY), one hour average per response; total annual reporting burden 3400 hours.

Status of the proposed information collection: Reinstatement, without change.

Authority: Section 3506 of the Paperwork Reduction Act of 1995, 44 U.S.C. Chapter 35, as amended.

Dated: September 3, 2002.
Michael Liu,
Assistant Secretary for Public and Indian Housing.

BILLING CODE 4210-33-M

[FR Doc. 02-22750 Filed 9-5-02; 8:45 am]

BILLING CODE 4210-33-C